INTER-AMERICAN FOUNDATION

Sunshine Act Meetings

TIME AND DATE: November 15, 2022, ET. 1 p.m.-2:30 p.m.

PLACE: Phoenix Park Hotel, 520 N Capitol St. NW, Washington, DC 20001, and Via Zoom.

STATUS: Meeting of the Board of Directors and Advisory Council, open to the public.

MATTERS TO BE CONSIDERED:

Call to Order

Overview of Meeting Rules by Acting General Counsel

President/CEO update

Management Team Updates

FY23 Priorities

Adjournment

CONTACT PERSON FOR MORE INFORMATION: Nicole Stinson, Associate General Counsel, (202) 683-7117.

For Dial-in Information Contact: Nicole Stinson, Associate General Counsel, (202) 683-7117.

The Inter-American Foundation is holding this meeting under the Government in the Sunshine Act, 5 U.S.C. 552(b).

Nicole Stinson,
Associate General Counsel.

[FR Doc. 2022-23967 Filed 10-31-22; 4:15 pm]

BILLING CODE 7025-01-P